DEPARTMENT OF HOMELAND SECURITY

Border and Transportation Security; Notice to Aliens Included in the United States Visitor and Immigrant Status Indicator Technology System (US-VISIT)

AGENCY: Border and Transportation Security Directorate, DHS.

ACTION: Notice.

SUMMARY: The Department of Homeland Security (DHS) has established the United States Visitor and Immigrant Status Indicator Technology Program (US-VISIT), an integrated, automated entry-exit system that records the arrival and departure of aliens; verifies aliens' identities; and authenticates aliens' travel documents through comparison of biometric identifiers. On January 5, 2004, DHS implemented the first phase of US-VISIT by publishing an interim final rule in the Federal Register at 69 FR 468 authorizing DHS to require certain aliens to provide fingerprints, photographs, or other biometric identifiers upon arrival in or departure from the United States at air and sea ports of entry. The January 5 interim final rule also authorized the Secretary of Homeland Security (Secretary) to establish pilot programs at up to fifteen air or sea ports of entry, to be identified by notice in the Federal Register, through which DHS may require certain aliens who depart from a designated air or sea port of entry to provide specified biometric identifiers and other evidence at the time of departure. On January 5, 2004, DHS published a notice in the Federal Register at 69 FR 482 identifying one air and one sea port of entry designated for US-VISIT inspection at the time of alien departure to initiate the US-VISIT exit pilot program.

This notice informs the public of the implementation of US-VISIT exit pilot programs at an additional thirteen air or sea ports as authorized under 8 CFR 215.8(a). This notice further provides a complete listing of the fifteen air and sea ports where US-VISIT exit pilot programs are in operation. This notice also introduces new data collection processes and describes the process under which the exit pilot programs will be evaluated by DHS.

DATES: Effective Dates: This notice is effective August 3, 2004.

FOR FURTHER INFORMATION CONTACT: Michael Hardin, Program Analyst, US-VISIT, Border and Transportation Security, Department of Homeland Security, 425 I Street, NW., Washington, DC 20536, telephone (202) 298-5200.

SUPPLEMENTARY INFORMATION:

Background

What Is US-VISIT?

DHS established the United States Visitor and Immigrant Status Technology Program (US-VISIT) in accordance with several Congressional mandates requiring that DHS create an integrated, automated entry-exit system that records the arrival and departure of aliens; verifies aliens' identities; and authenticates aliens' travel documents through comparison of biometric identifiers. US-VISIT is part of a continuum of security measures that begins overseas, when a person applies for a visa to travel to the United States, and continues on through entry and exit at U.S. air and seaports and, eventually, at land border crossings. The US-VISIT program enhances the security of U.S. citizens and visitors by verifying the identity of visitors with visas. At the same time, the program facilitates legitimate travel and trade by leveraging technology and the evolving use of biometrics to expedite processing at U.S. borders.

The goals of the program are to:

• Enhance the security of U.S. citizens and visitors.

• Facilitate legitimate travel and trade.

• Ensure the integrity of the immigration system.

• Safeguard the personal privacy of visitors.

On January 5, 2004, DHS published an interim final rule in the Federal Register at 69 FR 468 implementing the first phase of US-VISIT at air and sea ports of entry in the United States. The January 5 interim final rule authorized the Secretary to:

• Require nonimmigrant aliens seeking admission pursuant to a nonimmigrant visa at an air or sea port of entry designated by notice in the Federal Register to provide fingerprints, photograph(s), or other specified biometric identifiers at time of application for admission or at time of departure; and

• Establish pilot programs at up to fifteen air or sea ports of entry, designated through notice in the Federal Register, through which the Secretary or his delegate may require an alien admitted pursuant to a nonimmigrant visa who departs the United States from a designated air or sea port of entry to provide fingerprints, photograph(s), or other specified biometric identifiers, documentation of his or her immigration status in the United States, and such other evidence as may be requested to determine the alien's identity and whether he or she has properly maintained his or her status while in the United States.

On January 5, 2004, DHS also published a notice in the Federal Register identifying which aliens are subject to or exempt from the US-VISIT requirements, the information that would be required from those aliens, and the specific air and sea ports and locations which are designated for the collection of that information. The January 5 Notice also identified one airport and one seaport for collection of biometric information from aliens departing from the United States under the US-VISIT exit pilot program.

What Does This Notice Do?

This notice informs the public of the implementation of US-VISIT departure pilot programs to thirteen additional air or sea ports, expanding the US-VISIT exit program to the full complement of fifteen air or sea ports authorized under 8 CFR 215.8. All aliens subject to 8 CFR 235.1(d)(1)(iii) will be required to provide fingerprints, photographs, or other specified biographic data when departing the United States from one of these additional ports.

As discussed in the January 5 interim final rule, DHS, through the exit pilot programs, will test different methods to collect the required information from aliens as they depart the United States through the designated ports of entry. DHS currently is exploring several different methods and processes for collection of information, including the existing self-serve kiosks already in place and hand-held scanners that can be taken from person to person by a DHS officer to collect biometric information. The exit pilot programs will enable the Department to conduct a cost-benefit analysis of the different processes for collection of biometric information and determine which process allows for the most accurate and efficient collection of information from aliens departing from the United States.

How Will the Pilot Program Process Be Evaluated?

The objective of the exit pilot program is to allow DHS to evaluate processes for obtaining biometric identifiers and other information from aliens departing the United States and determine which process provides the best method of collecting this information in an expeditious and accurate manner. The goal of the pilot programs is to provide DHS with a flexible system (both technically and operationally), which is also compatible with other DHS agencies, port authorities, and with the travel industry.

Each process for collecting biometric identifiers at departure points will be evaluated using the following criteria:

• Enhancing the security of U.S. citizens and foreign visitors;

• Expediting legitimate travel and trade;

• Ensuring the integrity of the immigration system;

• Safeguarding the personal privacy of foreign visitors;

• Supporting the traveler's compliance with DHS procedures and any related law enforcement action necessary;

• Minimizing the impact to commercial and tourist travel as related to traveler time and travel industry involvement; and

• Minimizing the costs necessary to deploy.

The US-VISIT program will collect biographic and biometric data as described in the January 5, 2004 interim final rule at the fifteen exit pilot program locations identified in this notice beginning August 3, 2004. US-VISIT will complete the evaluation of the exit pilot programs, including evaluation of the methods and processes for collection of required information, by November 30, 2004. US-VISIT also will consider information obtained from the public through voluntary surveys and questionnaires in its evaluation of the pilot programs. Any surveys, questionnaires, or other methods of collecting information from the public to evaluate the US-VISIT exit pilot programs will be reviewed and cleared in accordance with the Paperwork Reduction Act of 1995. Following completion of the evaluation, the US-VISIT program will publish a subsequent notice in the Federal Register, announcing its findings and implementation plans.

Notice of Requirements for Biometric Collection From Aliens

In accordance with the authority granted to DHS pursuant to 8 CFR 215.8, DHS hereby orders as follows:

(a) Aliens subject to notice: Aliens subject to the conditions of entry specified at 8 CFR 235.1(d)(1)(ii) are subject to this notice and may be required to provide biometric information at time of departure from the United States.

(b) Aliens exempt: This notice does not apply to (i) aliens admitted on A-1, A-2, C-3 (except for attendants, servants or personal employees of accredited officials), G-1, G-2, G-3, G-4, NATO-1, NATO-2, NATO-3, NATO-4, NATO-5, or NATO-6 visas, unless the Secretary of State and the Secretary of Homeland Security jointly determine that a class of such aliens should be subject to this notice, (ii) children under the age of 14, (iii) persons over the age of 79, (iv) classes of aliens the Secretary of Homeland Security and the Secretary of State jointly determine shall be exempt, or (v) an individual alien whom the Secretary of Homeland Security, the Secretary of State or the Director of Central Intelligence determines shall be exempt. Aliens admitted on A-1, A-2, C-3 (except for attendants, servants or personal employees of accredited officials), G-1, G-2, G-3, G-4, NATO-1, NATO-2, NATO-3, NATO-4, NATO-5, or NATO-6 visas who are no longer in such status on date of departure, however, are subject to the departure requirements of this notice. Aliens exempted from paragraph (a) who are no longer in an exempted status on date of departure are subject to the departure requirements of this notice.

(c) Biometric Information: All aliens subject to this notice shall, at time of departure from designated air and sea ports, submit electronic fingerprints and electronically scan their travel document as requested at the departure inspection locations.

(d) Airport(s) designated for US-VISIT inspection at time of alien departure:

Baltimore, Maryland (Baltimore/Washington International Airport)

Newark, New Jersey (Newark International Airport)

Atlanta, Georgia (William B. Hartsfield International Airport)

Chicago, Illinois (O'Hare International Airport)

Philadelphia, Pennsylvania (Philadelphia International Airport)

Dallas/Fort Worth, Texas (Dallas/Fort Worth International Airport)

Detroit, Michigan (Detroit Metropolitan Wayne County Airport)

Las Vegas, Nevada (McCarran International Airport)

San Juan, Puerto Rico (Luis Muñoz Marin International Airport)

Phoenix, Arizona (Phoenix Sky Harbor International Airport)

San Francisco, California (San Francisco International Airport)

Agana, Guam (Agana International Airport)

Denver, Colorado (Denver International Airport)

(e) Sea port(s) designated for US-VISIT inspection at time of alien departure:

Miami, Florida

Los Angeles, California (including San Pedro and Long Beach)

The US-VISIT System Is Maintained Consistent With Privacy and Due Process Principles

DHS' Privacy Office, in conjunction with the US-VISIT Privacy Officer, will exercise oversight of the US-VISIT program to ensure that the information collected and stored in systems associated with US-VISIT is being properly protected under the privacy laws and guidance (68 FR 69412, dated December 12, 2003).

DHS will implement procedures to ensure the security, accuracy, relevance, timeliness and completeness of the information maintained in the US-VISIT system. Information is safeguarded in terms of applicable rules and policies, including DHS' automated systems security and access policies. Only those individuals who have an official need for access to the system in the performance of their duties will have access to the system. Records of those individuals who become U.S. citizens and legal permanent resident aliens will be protected in line with all applicable privacy laws and regulations. Those, including nonimmigrant aliens, who wish to contest or seek a change of their records should direct a written request to the US-VISIT Program Office at the following address: Steve Yonkers, Privacy Officer, US-VISIT, Border and Transportation Security, Department of Homeland Security, Washington, DC 20528, telephone (202) 298-5200, fax (202) 298-5201, and e-mail: usvisitprivacy@dhs.gov. Because of security concerns, mail sent to the government is occasionally delayed, so fax or e-mail will typically result in a quicker response. The request should include the requestor's full name, current address, date of birth, and a detailed explanation of the change sought. More information on redress procedures can be found at www.dhs.gov/usvisit. If the matter cannot be resolved by the Privacy Officer, further appeal for resolution may be made to the DHS Privacy Officer at the following address: Nuala O'Connor Kelly, Chief Privacy Officer, U.S. Department of Homeland Security, Washington, DC 20528, telephone (202) 282-8000, and fax (202) 772-5036.

Dated: July 24, 2004.
Tom Ridge,
Secretary of Homeland Security.

[FR Doc. 04-17792 Filed 7-30-04; 2:15 pm]

BILLING CODE 4410-10-P